DEPARTMENT OF AGRICULTURE

Forest Service

Availability of Appealable Decisions

AGENCY: Forest Service, USDA.

ACTION: Notice—Availability of appealable decisions; legal notice for availability for comment of decisions that may be appealable.

SUMMARY: Responsible Officials in the Rocky Mountain Region will publish notices of availability for comment and notices of decisions that may be subject to administrative appeal under 36 CFR part 215. These notices will be published in the legal notice section of the newspapers listed in the SUPPLEMENTARY INFORMATION section of this notice. As provided in 36 CFR 215.5, 215.6, and 215.7, such notice shall constitute legal evidence that the agency has given timely and constructive notice for comment and notice of decisions that may be subject to administrative appeal. Newspaper publication of notices of decisions is in addition to direct notice to those who have requested notice in writing and to those known to be interested in or affected by a specific decision.

DATES: Use of these newspapers for the purpose of publishing legal notices for comment and decisions that may be subject to appeal under 36 CFR part 215 shall begin April 12, 2004, and continue until further notice.

ADDRESSES: Rocky Mountain Region, ATTN: Regional Appeals Manager, PO Box 25127, Lakewood, CO 80225-0127.

FOR FURTHER INFORMATION CONTACT: Diana Menapace, 303-275-5156.

SUPPLEMENTARY INFORMATION: Responsible Officials in the Rocky Mountain Region will give legal notice of decisions that may be subject to appeal under 36 CFR part 215 in the following newspapers which are listed by Forest Service administrative unit. Where more than one newspaper is listed for any unit, the first newspaper listed is the primary newspaper which shall be used to constitute legal evidence that the agency has given timely and constructive notice for comment and for decisions that may be subject to administrative appeal. As provided in 36 CFR 215.15, the time frame for appeal shall be based on the date of publication of a notice for decision in the primary newspaper.

Notice by Regional Forester of Availability for Comment and Decisions: The Denver Post, published daily in Denver, Denver County, Colorado, for decisions affecting National Forest System lands in the States of Colorado, Nebraska, Kansas, South Dakota, and eastern Wyoming and for any decision of Region-wide impact. In addition, notice of decisions made by the Regional Forester will also be published the day after in the Rocky Mountain News, published daily in Denver, Denver County, Colorado. For those Regional Forester decisions affecting a particular unit, the day after notice will also be published in the newspaper specific to that unit.

Arapaho and Roosevelt National Forests, Colorado

Notice by Forest Supervisor of Availability for Comment and Decisions:

The Denver Post, published daily in Denver, Denver County, Colorado.

Notice by District Rangers of Availability for Comment and Decisions:

Canyon Lakes District: Coloradoan, published daily in Fort Collins, Larimer County, Colorado.

Pawnee District: Greeley Tribune, published daily in Greeley, Weld County, Colorado.

Boulder District: Daily Camera, published daily in Boulder, Boulder County, Colorado.

Clear Creek District: Clear Creek Courant, published weekly in Idaho Springs, Clear Creek County, Colorado.

Sulphur District: Sky High News, published weekly in Granby, Grand County, Colorado.

Grand Mesa, Uncompahgre and Gunnison National Forests, Colorado

Notice by Forest Supervisor of Availability for Comment and Decisions:

Grand Junction Daily Sentinel, published daily in Grand Junction, Mesa County, Colorado.

Notice by District Rangers of Availability for Comment and Decisions:

Grand Valley District: Grand Junction Daily Sentinel, published daily in Grand Junction, Mesa County, Colorado.

Paonia District: Delta County Independent, published weekly in Delta, Delta County, Colorado.

Gunnison Districts: Gunnison Country Times, published weekly in Gunnison, Gunnison County, Colorado.

Norwood District: Telluride Daily Planet, published daily in Telluride, San Miguel County, Colorado.

Ouray District: Montrose Daily Press, published daily in Montrose, Montrose County, Colorado.

Pike and San Isabel National Forests

Notice by Forest Supervisor of Availability for Comment and Decisions:

Pueblo Chieftain, published daily in Pueblo, Pueblo County, Colorado.

Notice by District Rangers of Availability for Comment and Decisions:

San Carlos District: Pueblo Chieftain, published daily in Pueblo, Pueblo County, Colorado.

Comanche District: Plainsman Herald, published weekly in Springfield, Baca County, Colorado. In addition, notice of decisions made by the District Ranger will also be published in the La Junta Tribune Democrat, published daily in La Junta, Otero County, Colorado, and in the Ag Journal, published weekly in La Junta, Otero County, Colorado.

Cimarron District: Tri-State News, published weekly in Elkhart, Morton County, Kansas.

South Platte District: News Press, published weekly in Castle Rock, Douglas County, Colorado.

Leadville District: Herald Democrat, published weekly in Leadville, Lake County, Colorado.

Salida District: The Mountain Mail, published daily in Salida, Chaffee County, Colorado.

South Park District: Fairplay Flume, published weekly in Fairplay, Park County, Colorado.

Pikes Peak District: The Gazette, published daily in Colorado Springs, El Paso County, Colorado.

Rio Grande National Forest, Colorado

Notice by Forest Supervisor of Availability for Comment and Decisions:

Valley Courier, published daily in Alamosa, Alamosa County, Colorado.

Notice by District Rangers of Availability for Comment and Decisions:

Valley Courier, published daily in Alamosa, Alamosa County, Colorado.

Routt National Forest, Colorado

Notice by Forest Supervisor of Availability for Comment and Decisions:

Laramie Daily Boomerang, published daily in Laramie, Albany County, Wyoming. In addition, for decisions affecting an individual district(s), the local district(s) newspaper will also be used.

Notice by District Rangers of Availability for Comment and Decisions:

Hahns Peak-Bears Ears District: Steamboat Pilot, published weekly in Steamboat Springs, Routt County Colorado.

Yampa District: Steamboat Pilot, published weekly in Steamboat Springs, Routt County, Colorado.

Parks District: Jackson County Star, published weekly in Walden, Jackson County, Colorado.

San Juan National Forest, Colorado

Notice by Forest Supervisor of Availability for Comment and Decisions:

Durango Herald, published daily in Durango, La Plata County, Colorado.

Notice by District Rangers of Availability for Comment and Decisions:

Durango Herald, published daily in Durango, La Plata County, Colorado.

White River National Forest, Colorado

Notice by Forest Supervisor of Availability for Comment and Decisions:

The Glenwood Springs Post Independent, published Monday through Sunday in Glenwood Springs, Garfield County, Colorado.

Notice by District Rangers of Availability for Comment and Decisions:

Aspen District: Aspen Times, published weekly in Aspen, Pitkin County, Colorado.

Blanco District: Rio Blanco Herald Times, published weekly in Meeker, Rio Blanco County, Colorado.

Dillon District: Summit County Journal, published daily in Frisco, Summit County, Colorado.

Eagle District: Eagle Valley Enterprise, published weekly in Eagle, Eagle County, Colorado.

Holy Cross District: Vail Trail, published weekly in Vail, Eagle County, Colorado.

Rifle District: Citizen Telegram, published weekly in Rifle, Garfield County, Colorado.

Sopris District: Valley Journal, published weekly in Carbondale, Garfield County, Colorado.

Nebraska National Forest, Nebraska

Notice by Forest Supervisor of Availability for Comment and Decisions:

The Rapid City Journal, published daily in Rapid City, Pennington County, South Dakota for decisions affecting National Forest System lands in the State of South Dakota.

The Omaha World Herald, published daily in Omaha, Douglas County, Nebraska for decisions affecting National Forest System lands in the State of Nebraska.

Notice by District Rangers of Availability for Comment and Decisions:

Bessey District/Charles E. Bessey Tree Nursery: The North Platte Telegraph, published daily in North Platte, Lincoln County, Nebraska.

Pine Ridge District: The Chadron Record, published weekly in Chadron, Dawes County, Nebraska.

Samuel R. McKelvie National Forest: The Valentine Midland News, published weekly in Valentine, Cherry County, Nebraska.

Fall River and Wall Districts, Buffalo Gap National Grassland: The Rapid City Journal, published daily in Rapid City, Pennington County, South Dakota.

Fort Pierre National Grassland: The Capital Journal, published Monday thru Friday in Pierre, Hughes County, South Dakota.

Black Hills National Forest, South Dakota and Eastern Wyoming

Notice by Forest Supervisor of Availability for Comment and Decisions:

The Rapid City Journal, published daily in Rapid City, Pennington County, South Dakota.

Notice by District Rangers of Availability for Comment and Decisions:

The Rapid City Journal, published daily in Rapid City, Pennington County, South Dakota.

Bighorn National Forest, Wyoming

Notice by Forest Supervisor of Availability for Comment and Decisions:

Casper Star-Tribune, published daily in Casper, Natrona County, Wyoming.

Notice by District Rangers of Availability for Comment and Decisions:

Casper Star-Tribune, published daily in Casper, Natrona County, Wyoming.

Medicine Bow National Forests and Thunder Basin National Grassland, Wyoming

Notice by Forest Supervisor of Availability for Comment and Decisions:

Laramie Daily Boomerang, published daily in Laramie, Albany County, Wyoming.

Notice by District Rangers of Availability for Comment and Decisions:

Laramie District: Laramie Daily Boomerang, published daily in Laramie, Albany County, Wyoming.

Douglas District: Casper Star-Tribune, published daily in Casper, Natrona County, Wyoming.

Brush Creek—Hayden District: Rawlins Daily Times, published daily in Rawlins, Carbon County, Wyoming.

Shoshone National Forest, Wyoming

Notice by Forest Supervisor of Availability for Comment and Decisions:

Cody Enterprise, published twice weekly in Cody, Park County, Wyoming.

Notice by District Rangers of Availability for Comment and Decisions:

Clarks Fork District: Powell Tribune, published twice weekly in Powell, Park County, Wyoming.

Wapiti and Greybull Districts: Cody Enterprise, published twice weekly in Cody, Park County, Wyoming.

Wind River District: The Dubois Frontier, published weekly in Dubois, Fremont County, Wyoming.

Washakie District: Lander Journal, published weekly in Lander, Fremont County, Wyoming.

Dated: March 29, 2004.
Richard C. Stem,
Deputy Regional Forester, Resources, Rocky Mountain Region.

[FR Doc. 04-8143 Filed 4-9-04; 8:45 am]

BILLING CODE 3410-11-P